DEPARTMENT OF TRANSPORTATION

Federal Aviation Administration

14 CFR Part 73

[Docket No. FAA-2014-0370; Airspace Docket No. 14-ASO-2]

RIN 2120-AA66

Redesignation and Expansion of Restricted Area R-4403; Gainesville, MS

AGENCY: Federal Aviation Administration (FAA), DOT.

ACTION: Final rule.

SUMMARY: This action removes restricted area R-4403 Gainesville, MS, and replaces it with an expanded area redesignated as R-4403A, B, C, E and F, Stennis Space Center (SSC), MS (the designation R-4403D is not used). The expanded restricted airspace is necessary to support essential National Aeronautics and Space Administration (NASA) testing and Naval Special Warfare Command (NSWC) training requirements.

DATES: Effective date 0901 UTC, May 26, 2016.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it restructures the restricted airspace at the Stennis Space Center, MS, to enhance aviation safety and accommodate essential testing and training by NASA and the NSWC.

History

On July 10, 2014, the FAA published in the Federal Register a notice proposing to re-designate and expand restricted area R-4403, Gainesville, MS, to support missions of the National Aeronautics and Space Administration (NASA) and the Naval Special Warfare Command (NSWC) (79 FR 39344). Interested parties were invited to participate in this rulemaking effort by submitting written comments on the proposal. Eight comments were received.

On August 17, 2015, the FAA published a Supplemental Notice of Proposed Rulemaking (SNPRM) (80 FR 49181) to solicit comments on changes to the originally proposed boundaries, time of designation and proposed restricted area activities. Three comments were received in response to the SNPRM.

Discussion of Comments

In response to the NPRM and SNPRM, a combined total of 11 comments were received (including one duplicate submission). Comments were submitted by four individuals and the Aircraft Owners and Pilots Association (AOPA), Partners for Stennis, Hancock County Board of Supervisors, Hancock County Port and Harbor Commission, and the Mississippi Airports Association. Two individuals expressed support for the proposal. The remaining commenters expressed objections or concerns that are discussed in this section.

Several commenters objected to size of the expanded area stating that all other options, including the use of other existing special use airspace (SUA) elsewhere, should be explored first. One commenter wrote that the entire area should not be designated as restricted airspace. Instead, the bulk of the area should be a military operations area (MOA).

The R-4403 complex is being expanded because the current airspace cannot fully contain the lateral and vertical hazards associated with rocket engine testing. Plus, it cannot accommodate NASA's testing of untethered autonomous space vehicles. Further, the Navy's existing Western Maneuver Area (WMA) has no restricted airspace to permit air-to-ground live-fire training for Special Operations Force (SOF) units. The dimensions of the expanded restricted airspace were calculated to contain the hazard zones for all NASA tests and NSWC training events. The dimensions of R-4403A cannot be reduced due to the rocket engine testing hazard area. R-4403B provides airspace to contain untethered autonomous vehicle testing and is designed to ensure containment of untethered vehicle flight profiles. R-4403C is required to contain air-to-ground firing of various weapons and lasers at ground targets within R-4403C. R-4403E is required to contain air-to-ground laser firing at ground targets within R-4403E. R-4403F is sized to contain the AC-130 gunship orbit while firing lasers at the target in R-4403E. The expansion represents the minimum restricted airspace needed to segregate these hazards from nonparticipating aircraft.

Regarding the comment that other existing SUA should be used instead of expanding R-4403, there is no other special use airspace available to relocate the testing and training missions. It would be economically unfeasible to move the large infrastructure and engine testing facilities in place at SSC (test stands, etc.). Further, the SSC Acoustical Buffer Zone makes SSC the last place in the country where NASA can test large engines and whole rocket stages. For the Navy, R-4403C through F overlie a combination of riverine, jungle and coastal features that support SOF training requirements. These subareas contain double and triple canopy jungles similar to environments in other parts of the world where SOF units could be deployed. Plus, the area contains seven miles of river to support coastal and riverine operations training. These features form a unique area that cannot be duplicated anywhere else in the United States where the Navy owns land.

The FAA determined that a MOA is not the appropriate type of SUA to use in this case. MOAs are established to contain nonhazardous military flight training activities. Examples include, but are not limited to, aerobatics, air combat maneuvers, low altitude tactics, air intercepts, etc. No firing of weapons or ordnance is permitted in a MOA.

One commenter wrote that the different times of designation for R-4403A and B versus those for R-4403C through F are confusing. Also, the provision allowing activation of R-4403C through F at “other times by NOTAM with ATC approval” would permit operations to be conducted at any time (with minimal notice) thus hindering the ability of pilots to effectively plan flights and leading transient pilots to select other airfields.

The time periods for R-4403A and B are based on NASA testing requirements which are primarily accomplished during daylight hours. The times for R-4403C through F reflect NSWC training requirements which are primarily accomplished during nighttime hours. In response to the comment, the proposed provision to activate R-4403C through F at “other times by NOTAM with ATC approval” is removed. Therefore, any activations of the R-4403 complex (R-4403A through F) will require that a NOTAM be issued at least 24 hours in advance. There is no allowance for activating the areas outside the specific times listed in the restricted area descriptions (see the “Adoption of the Amendment” section, below). The 24-hour NOTAM requirement will provide pilots with advance information needed for flight planning purposes. In addition, the restricted area using agencies have agreed to publish a VHF frequency on the New Orleans Sectional Aeronautical Chart so that pilots can call to determine the real-time status of the airspace.

One commenter responding to the NPRM wrote that the VPRAM VFR waypoint, located at the intersection of Interstate I-10 and U.S. Highway 90, is too close to the restricted areas for pilots to safely use I-10 as a visual reference. The commenter believes that it could actually increase the chance of pilots mistakenly intruding into restricted airspace or force them to fly farther south and potentially out of visual range of the interstate. In response to this comment, the FAA proposed in the SNPRM to move the southern boundary slightly northward in an effort to remain clear of I-10. However, a commenter responding to the SNPRM said that the revised line was still too close for pilots to safely navigate using VPRAM and I-10 as a reference. The commenter recommended that the southern boundary be moved still further north to be at least one nautical mile (NM) from I-10 in all places.

NASA and NSWC considered moving the boundary further north but determined it could not be done without infringing on the required safety buffers in R-4403A, B and C. The FAA agrees that VPRAM is too close to the new restricted areas and therefore is cancelling that waypoint. In its place, the FAA is establishing two new Visual Flight Rules (VFR) waypoints south of I-10 to assist pilots transitioning east and west in that area. The new VFR waypoints are VPASD located at 30°15′45″ N., 89°41′18″ W.; and VPHSA located at 30°18′54″ N., 89°28′51″ W. It should be noted that when inflight visibility permits, pilots remaining south of I-10 while flying east or westbound can be assured that they will be clear of the southern boundaries of R-4403A, B and C.

One commenter objected to R-4403A because it increases the land-based testing area. The commenter also objected to untethered space vehicle testing to the extent that it would exceed 6,000 feet MSL.

R-4403A is a 2.5 NM radius circle from the surface up to 12,000 feet MSL. It will be used approximately 40 times per year to test rocket engines on fixed-in-place test stands. Due to its small footprint, only a minor lateral flight deviation would be required to circumnavigate the area. Untethered space vehicle testing will only occur in R-4403B, which has a ceiling of 6,000 feet MSL.

A commenter said that the proposed live-fire operations in R-4403E and F pose a risk for planes travelling to Stennis International Airport. Further, the area of proposed firing encompasses an area through which Mississippi Highway 43 extends and is only a short distance from a Hancock County elementary school.

Highway 43 and the school are located in the vicinity of R-4403E and F. The original proposal included a plan to expend ordnance and fire lasers into R-4403E. During the range design process, the Navy determined that the required weapons danger zones could not be fully contained within Federally-owned property. Therefore, the target area was reduced to an air-to-ground laser-only target, and there will be no air-to-ground ordnance delivery into R-4403E. Instead, only laser firing by AC-130s at the ground target on Navy-owned land will be conducted. Highway 43 and the school are clear of any risk. Restricted areas are established to segregate hazardous activities from nonparticipating aircraft. By avoiding the restricted areas, aircraft operating to or from Stennis International Airport would not be exposed to hazards.

Concern was expressed about the proposal for ground forces to use eye-safe lasers for signaling military aircraft operating overhead.

The Navy re-evaluated this requirement and determined it is not necessary. There will be no ground-to-air laser use at SSC.

Several commenters raised concerns about the safety of residents and visitors, the firing of weapons over land that remains in legal title with individual landowners and restrictions on public access to, and the use of, the property.

Both NASA and the Navy have stringent policies and procedures to ensure that hazardous activities are contained within restricted airspace. A number of measures are in place to ensure public safety. All Stennis facilities are contained within a 13,800-acre area owned by the Federal government known as the “Stennis Fee Area.” This area is gated and patrolled 24-hours by a security force to deny unauthorized access. The Fee Area is surrounded by a 125,000-acre acoustical buffer zone that was established in 1962 to reduce the harmful effects of very loud sound waves and sonic vibration produced by rocket engine tests. The buffer zone grants to the United States government a perpetual restrictive easement for restricting certain uses in, on, across and over the land in the buffer zone. The easement encumbers every buffer zone property owner by prohibiting human habitation or human occupancy of dwellings or other buildings. The easement gives the government the right to prohibit the construction of dwellings and other buildings for human habitation or occupancy, together with the right to post signs indicating the nature and extent of the Government's control and the right of ingress and egress over and across the affected lands.

The restricted area expansion was specifically designed and sized to contain hazards from NASA and NSWC activities within the ground features of Stennis Space Center and the associated acoustical buffer zone. While individual land owners make up much of the Stennis Buffer Zone, all impact areas and weapons danger zones will be on property that is owned by the Navy. The restricted areas that go to the surface are totally contained within the SSC Buffer Zone.

The easement does permit other uses when those activities do not interfere with, or reduce the rights of, the government. Access to private property in the buffer zone is allowed with prior coordination with SSC. In cases where property owners require aerial access to parcels encumbered by this restricted airspace, aerial access may be arranged through coordination with the NASA/SSC Range Safety Manager via the Stennis Flight Request System at (https://airrange.ssc.nasa.gov/FlightRequest.asp).

Regarding concerns about the safety of persons with respect to the firing of weapons in the restricted areas, real-time operational control over the underlying land is most critical where live-fire operations are conducted. The impact areas in the Navy-owned WMA are fenced for denial of public access with signs posted along the fence line warning of the hazardous range activities. The Navy cannot fire onto lands they do not own.

Conversely, public access to Pearl River, Mike's River and McCarty Bayou is not restricted but, prior to any live-fire operations, range guards in boats will clear all waterways encumbered by surface danger zones. Picket boats are then posted at the north and south ends of the Pearl River to guard against unauthorized public access to live-fire areas. These safety measures are in use today during ground-based training operations in the WMA, and they will also be used for future activities within the restricted airspace. For an added layer of safety when AC-130 gunships are operating, their crews, as a matter of procedure, inspect target and impact areas both visually and with on-board sensors to ensure no unauthorized personnel are in the area.

A commenter asked why the “airport operating area” around Picayune Municipal Airport was reduced from 5 NM to 3 NM.

There is no designated “airport operating area” airspace at Picayune Municipal. The airspace in the immediate vicinity (6.5 NM radius) of Picayune is uncontrolled airspace (Class G) below 700 feet AGL. FAA policy requires that restricted areas must exclude the airspace at and below 1,500 feet above ground level (AGL) within a 3 NM radius of airports that are available for public use. That is the reason for the 3-NM exclusion applied at Picayune Municipal. Because Picayune does not have an airport traffic control tower (ATCT), there is no Class D airspace (that would extend upward from the surface) designated at that airport. Thus, the 3-NM exclusion was applied. By comparison, at Stennis International Airport, which has an operating ATCT, Class D airspace has been designated within a 4.2-NM radius of the airport from the surface up to 2,500 feet MSL. The boundaries of R-4403B, C, and E are aligned along the boundary of the Stennis Class D airspace area so as to avoid infringing upon the airport's Class D airspace.

A commenter requested that any airspace changes should take place only in concert with the publication of VFR and IFR aeronautical charts so that all pilots are aware of the changes. Further, the instrument approach procedure plates for Picayune Municipal Airport should be revised to show the restricted areas to warn pilots of their location.

The restricted area expansion becomes effective on May 26, 2016, which coincides with both the next edition of the New Orleans Sectional Aeronautical Chart and the IFR chart cycle. The applicable instrument approach procedure plates will also be revised to depict the new restricted areas.

Most commenters are concerned about the potential impact of the restricted areas on IFR and VFR aircraft transiting the area and on the published instrument approach procedures serving Picayune Municipal (KMJD) and Stennis International (KHSA) airports. There is also concern that pilots would simply avoid using those airports.

The FAA acknowledges that, depending on actual utilization of the restricted areas, there may be times when instrument procedures and/or transiting flights would be impacted requiring additional vectoring by air traffic control (ATC) or causing pilots to deviate in order to avoid the restricted airspace. A number of mitigations such as the planned intermittent use of the complex, the ability of ATC to recall airspace, adjustment to instrument procedures, etc., are intended to lessen the overall impact of the restricted areas.

Regarding the instrument procedures for Picayune Municipal Airport (KMJD), the RNAV (GPS) RWY 36 approach would be impacted since its protected airspace penetrates areas A, B, C and E. When only R-4403A is in use, and radar is available, ATC may be able to vector aircraft so as to clear the R-4403A boundary. Because R-4403A does not contain any aviation activity, ATC can vector aircraft to miss the boundary rather than apply 3-NM lateral separation that would be required if the area contained flight activity. In a non-radar environment, however, the approach would be unavailable. The use of R-4403A is expected to be infrequent (approximately 40 days per year) minimizing potential impacts. When R-4403B, C or E are in use, Picayune's runway 36 approach would be unavailable unless ATC can recall the airspace or temporarily assign military aircraft to maintain an altitude that would provide separation from the IFR arrivals or departures. The current runway 36 missed approach procedure is being revised so that aircraft will climb straight ahead to the CIQYI waypoint and hold, instead of proceeding eastward to the CAESA fix, which would further penetrate restricted airspace.

The missed approach procedure for the RNAV (GPS) RWY 18 approach at Picayune penetrates R-4403B, C and E. The missed approach procedure is being redesigned so that instead of taking aircraft east of the airport and into restricted airspace, aircraft will execute a climbing right turn, away from the restricted areas, direct to the CIQYI initial approach fix and hold.

Minor modifications are being made to the VOR-A approach. The inbound course is being changed by three degrees from 132° to 129°, and the missed approach point changed to 5.23 NM from the final approach fix instead of 5.7 NM from the fix.

Regarding Stennis International Airport's (KHSA) instrument procedures, a commenter asked FAA to ensure that R-4403F does not interfere with the instrument approaches to runway 18 at Stennis International Airport.

The floor of R-4403F was set at 4,000 feet MSL to provide room for runway 18 approaches underneath R-4403F.

A concern was raised about medevac helicopter flights to the Ochsner Medical Center Heliport (LS51) in Slidell, LA.

The proximity of the heliport to the boundary of R-4403B and C could affect IFR flight to and from the facility when those areas are active. Provisions for ATC to recall a portion of the airspace to accommodate emergency medevac flights are included in the Letter of Procedure (LOP). When R-4403A is active, as discussed above, it is only necessary for flights to miss the boundary. The small size (2.5-NM radius) would require a minor lateral flight deviation to circumnavigate the area.

There would be some impact on the use of a feeder route from the Picayune (PCU) VOR/DME to the DUFOS initial approach fix (IAF) for the RNAV (GPS) RWY 36 approach at Slidell Airport (KASD), LA. The flight path will come very close to the boundary of R-4403B and C and the protected airspace for that route penetrates the restricted areas.

A note will be added to the approach plate to indicate the feeder route is “Not Authorized” when R-4403B or C is active.

Need for Restricted Airspace

As noted above, R-4403 is too small to fully contain hazards from rocket engine tests and other NASA test requirements. Expanded restricted airspace is needed to test current and future space transportation systems so that NASA can meet its obligations under the National Space Policy. Additionally, the current restricted area cannot accommodate essential NSWC training scenarios. Today, the Navy uses the existing WMA to train land and riverine SOF elements. However, this training is limited by the lack of restricted airspace needed to train under air-to-ground live-fire conditions. This severely restricts the Navy's ability to conduct realistic, full- mission profile training to prepare SOF units for deployments world-wide. The lack of an air-to-ground, live-fire capability means that air and ground units are forced to simulate the coordination and integration of air-to-ground live-fire operations limiting this phase of training to basically a communications-only exercise. Because operations with live air-to-ground weapons employment cannot be practiced in advance, the SOF units are unable to identify and correct any potential conflicts or coordination problems that could otherwise arise for the first time during actual missions while deployed. This training limitation places the mission, personnel and equipment at risk. The designation of R-4403C, E and F alleviates that training shortfall.

Projected Use of Restricted Areas

Use of R-4403A through F will be governed by the terms in a LOP between NASA/SSC, NSWC, Houston Air Route Traffic Control Center (ARTCC) and the ATC facilities at New Orleans, LA, and Gulfport, MS. The LOP will include procedures for activating and deactivating the restricted areas, and it includes several provisions aimed at lessening potential aeronautical impacts of the restricted areas.

The LOP provides that R-4403B through F cannot be scheduled during certain special events that would attract a high volume of air traffic to or through the local area. Examples include, but are not limited to, the Sugar Bowl, Mardi Gras, Super Bowl, Final Four, large conventions, etc.

The LOP further provides that ATC can recall the airspace (except R-4403A) for severe weather, severe traffic congestion, inflight emergencies or equipment outages (radar and communications). Additionally, when bad weather is forecast and ATC sees a requirement for all of R-4403, then ATC has the ability to disapprove the next day's schedule for a complete weather recall of the airspace, if needed. One exception is that R-4403A cannot be recalled once the rocket engine fueling process has begun.

The LOP also enables ATC, under certain conditions, to accommodate access to affected airports (such as Picayune Municipal) by temporarily restricting the military aircraft operating in the restricted area at a higher altitude so that IFR traffic can arrive or depart the airport underneath. Once the traffic is clear, the restricted airspace is returned to the users.

The expected overall use of the R-4403 restricted area complex will be approximately 160 days per year, on an intermittent basis, depending on NASA test requirements and Navy mission taskings. Planned use of each subarea is described below.

R-4403A is for the exclusive use by NASA for testing rocket engine technology on fixed-in-place engine test stands. Anticipated need for this testing is approximately 20 to 40 times per year. NASA will activate R-4403A an average of 7 hours for each engine test event. If technical difficulties or other conditions require, R-4403A may need to be activated for up to 12 hours. Once loading of the propellant and oxidizer tanks begins, a potential hazard exists due to the volatility of those products; hence, the operation cannot be halted. For this reason, R-4403A cannot be recalled by ATC once the fueling begins. Note: No other subarea can be activated while R-4403A is in use.

R-4403B is for the exclusive use by NASA for Untethered Autonomous Flight Vehicle testing (such as the Morpheus Lander). Testing of these vehicles involves hazards because failure of the vehicle, its propulsion system, or propellant tanks can result in explosion of the vehicle. The propensity for this to occur is greater with these vehicles than with a standard aircraft because of the extremely volatile nature of the propellants and the poor aerodynamic characteristics of the vehicle during earth-based operation. The anticipated need for this type of testing is approximately 3 times per year. Actual flight during these test events would be less than 8 minutes; however, due to the complexity of the event, each test will require activation of R-4403B for 7 to 12 hours. NASA will only activate R-4403B to the altitude necessary for the specific activity being conducted. Note: No other subarea can be activated while R-4403B is in use.

R-4403C is used for Navy SOF Integration Training. It has the same lateral boundaries as R-4403B. The purpose of R-4403C is to support pre-deployment training of SOF units with air-to-ground, live-fire of munitions and lasers. Total usage of R-4403C is anticipated to be 100 to 120 days per year in approximately 3-hour blocks. R-4403C extends from the surface up to 10,000 feet MSL. However, when AC-130s are not participating in a training event, R-4403C will only be scheduled up to 6,000 feet MSL. This will lessen potential impacts of the restricted area on nonparticipating aircraft. Depending on the mission, R-4403C can and will be used by itself, but approximately 20 days per year, it will be used in conjunction with R-4403E and F.

R-4403E and F are also used for SOF training. Their purpose is to contain AC-130 gunships firing non-eye-safe lasers aimed at a ground target in R-4403E. They will always be activated together for that purpose. The AC-130 will fly in a circular orbit at a 2 to 2.5-NM radius from the target, at an altitude ranging from 8,000 feet to 10,000 feet MSL. R-4403E and F can be activated independently of R-4403C, but typically they would be used in conjunction with R-4403C. Total usage of R-4403E and F is anticipated to be 20 days per year in approximately 3-hour blocks concurrent with R-4403C.

R-4403C, E and F will also be used during the annual Emerald Warrior SOF training exercise. This exercise lasts no more than 10 days.

Note: The term “intermittent” as used in the times of designation for the R-4403 complex indicates occasional, irregular, or changeable use periods within the stated times.

Summary of Mitigations

This section presents a summary of mitigations intended to lessen the potential impact of the restricted area expansion.

—The restricted areas will be used intermittently. Overall use of the complex is limited to approximately 160 days per year per the Letter of Procedure.

—The original proposal allowing activation of R-4403C, E and F at “other times by NOTAM with ATC approval” was eliminated.

—No other subarea can be activated while R-4403A is in use.

—No other subarea can be activated when R-4403B is in use.

—NASA will activate R-4403B only to the altitude required for the specific mission.

—R-4403C will only be activated to 6,000 feet MSL when AC-130 gunships are not participating in a mission.

—Two new VFR waypoints are being established south of I-10 to aid VFR navigation.

—A VHF frequency will be added to the New Orleans Sectional Aeronautical chart for pilots to obtain real-time status of the restricted areas.

—R-4403B through F cannot be activated during certain special events that would attract a high volume of air traffic to or through the area.

—ATC can recall the airspace in cases of inflight emergencies, severe weather, severe air traffic congestion or equipment outages (radar and communications).

—ATC can recall the airspace, if necessary, for medevac helicopters.

—ATC can recall or restrict users to higher altitudes to allow IFR operations at Picayune Municipal Airport.

—Revisions to instrument approach procedures serving Picayune Municipal Airport and Stennis International Airport.

The Rule

The FAA is amending 14 CFR part 73 by removing restricted area R-4403, Gainesville, MS, and replacing it with expanded restricted airspace consisting of five subareas, designated R-4403A, R-4403B, R-4403C, R-4403E and R-4403F. (Note: the designation R-4403D is not used).

The FAA is taking this action because the existing airspace is too small to fully contain NASA test activities and NSWC pre-deployment training for Special Operations Forces.

R-4403A and B will be used solely by NASA for rocket engine testing and untethered space vehicle propulsion system testing. The NSWC will use R-4403C, E and F for pre-deployment integration training for Special Operations Forces. The restricted area subareas are described below.

R-4403A contains testing of rocket engine technologies on Stennis Space Center's engine test stands. It consists of the airspace within a 2.5-NM radius of lat. 30°21′51″ N., long. 89°35′39″ W., (centered on the rocket engine test complex) and extends from the ground up to 12,000 feet MSL. This testing does not entail any flight activity as the operation takes place on fixed-in-place stands. No other subareas may be activated while R-4403A is in use.

R-4403B is used by NASA for testing of untethered autonomous space vehicles that are used to explore planets and asteroids. R-4403B extends from the ground up to 6,000 feet MSL. No other subareas may be activated while R-4403B is in use.

R-4403C contains the Navy's existing Western Maneuver Area (WMA) which is used for pre-deployment training for Special Operations Forces. R-4403C extends from the ground up to 10,000 feet MSL. Hazardous activities in R-4403C will consist of air-to-ground live-fire training for AC-130 gunships, armed helicopters and tilt-rotor (CV-22) aircraft and surface-to-surface weapons firing by ground forces. R-4403C contains two impact areas (targets) for air-to-ground munitions employment (up to 105mm), and air-to-ground non-eye-safe laser firing. R-4403C will be activated to 10,000 feet MSL when AC-130 gunships are operating. If AC-130s are not operating, R-4403C will only be activated up to 6,000 feet MSL (the remaining airspace is available to other users). Originally, the Navy intended to also employ eye-safe lasers for signaling military aircraft operating overhead, but this activity has been eliminated.

R-4403D. This designation is not used.

R-4403E contains a ground target for the firing of non-eye safe lasers by AC-130 gunships. R-4403E extends from the ground up to 10,000 feet MSL. The original proposals to also use this area for air-to-ground munitions delivery and for the use of eye-safe ground-to-air lasers to signal military aircraft operating overhead are eliminated.

R-4403F wraps around the northeast corner of R-4403E and extends upward from 4,000 feet MSL to 10,000 feet MSL. Its purpose is to ensure containment of the AC-130 orbit, which is a 2.5 NM radius around the laser ground target in R-4403E. R-4403E could be activated by itself, but R-4403E and F will always be activated together for AC-130 laser firing. The two areas can be activated separately from R-4403C, but typically they will be used in conjunction with R-4403C.

The time of designation for NASA's R-4403A and R-4403B is “Intermittent, 1000 to 0300 local time, as activated by NOTAM at least 24 hours in advance.” The time of designation for NSWC's R-4403C, R-4403E and R-4403F is “Intermittent, 2000 to 0500 local time, as activated by NOTAM at least 24 hours in advance; and 1800 to 2000 local time, November 1 to March 1, as activated by NOTAM at least 24 hours in advance (not to exceed 20 days per year).” To clarify, the 1800 to 2000 time frame can only be used between November 1 and March 1 and only for a maximum 20 days per year during that period. In the original proposal, R-4403C, E and F included an additional provision allowing the airspace also to be activated at any other times by NOTAM with ATC approval. That provision has been eliminated.

During times when the above restricted areas are not needed by the using agencies, the airspace will be returned to the FAA controlling agency, Houston Air Route Traffic Control Center (ARTCC), and will be available for access by other airspace users.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has conducted an environmental review for this rulemaking in accordance with FAA Order 1050.1F, Environmental Impacts: Policies and Procedures, and the regulations of the Council on Environmental Quality implementing the National Environmental Policy Act, 40 CFR parts 1500-1508. This review has included independent evaluation and adoption of the NSWC's and NASA's Final Environmental Assessment for the Redesignation and Expansion of Restricted Airspace R-4403 to Support Military Air-to-Ground Munitions Training and National Aeronautics and Space Administration Rocket Engine Testing at Stennis Space Center dated October 2015 (hereinafter “the FEA”), on which the FAA was a cooperating agency, as well as environmental analysis of the changes to approach procedures at Picayune Municipal Airport and Stennis International Airport described in the Summary of Mitigations above. Based on its environmental review, the FAA has determined that this rule will not significantly affect the human environment. The FAA's ROD and environmental review are included in the docket for this rulemaking. The FEA is available at http://www.ssc.nasa.gov/environmental/docforms/eas/eas.html.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.44 [Amended]

2. Section 73.44 is amended as follows:

R-4403 Gainesville, MS [Removed]

R-4403A Stennis Space Center, MS [New]

Boundaries. That airspace within a 2.5-NM radius centered at lat. 30°21′51″ N., long. 89°35′39″ W.

Designated altitudes. Surface to 12,000 feet MSL.

Time of designation. Intermittent, 1000 to 0300 local time, as activated by NOTAM at least 24 hours in advance.

Controlling agency. FAA, Houston ARTCC.

Using agency. NASA, Director, Stennis Space Center, Bay St. Louis, MS.

R-4403B Stennis Space Center, MS [New]

Boundaries. Beginning at lat. 30°29′37″ N., long. 89°35′16″ W.; to lat. 30°29′37″ N., long. 89°32′33″ W.; thence clockwise along a 0.85-NM arc centered at lat. 30°28′46″ N., long. 89°32′33″ W.; to lat. 30°28′46″ N., long. 89°31′34″ W.; to lat. 30°26′25″ N., long. 89°31′34″ W.; to lat. 30°24′02″ N., long. 89°31′34″ W.; thence counterclockwise along a 4.2-NM arc centered at lat. 30°22′04″ N., long. 89°27′17″ W.; to lat. 30°20′28″ N., long. 89°31′46″ W.; to lat. 30°19′19″ N., long. 89°35′32″ W.; to lat. 30°18′23″ N., long. 89°40′17″ W.; to lat. 30°21′08″ N., long. 89°42′25″ W.; to lat. 30°22′22″ N., long. 89°42′58″ W.; to lat. 30°23′44″ N., long. 89°42′43″ W.; to lat. 30°26′40″ N., long. 89°40′51″ W.; thence counterclockwise along a 3-NM arc centered at lat. 30°29′15″ N., long. 89°39′04″ W.; to lat. 30°27′08″ N., long. 89°36′37″ W.; to lat. 30°27′58″ N., long. 89°35′27″ W.; to lat. 30°28′47″ N., long. 89°35′27″ W.; to the point of beginning.

Designated altitudes. Surface to 6,000 feet MSL.

Time of designation. Intermittent, 1000 to 0300 local time, as activated by NOTAM at least 24 hours in advance.

Controlling agency. FAA, Houston ARTCC.

Using agency. NASA, Director, Stennis Space Center, Bay St. Louis, MS.

R-4403C Stennis Space Center, MS [New]

Boundaries. Beginning at lat. 30°27′58″ N., long. 89°35′27″ W.; to lat. 30°22′35″ N., long. 89°35′27″ W.; to lat. 30°22′35″ N., long. 89°32′06″ W.; thence counterclockwise along a 4.2-NM arc centered at lat. 30°22′04″ N., long. 89°27′17″ W.; to lat. 30°20′28″ N., long. 89°31′46″ W.; to lat. 30°19′19″ N., long. 89°35′32″ W.; to lat. 30°18′23″ N., long. 89°40′17″ W.; to lat. 30°21′08″ N., long. 89°42′25″ W.; to lat. 30°22′22″ N., long. 89°42′58″ W.; to lat. 30°23′44″ N., long. 89°42′43″ W.; to lat. 30°26′40″ N., long. 89°40′51″ W.; thence counterclockwise along a 3-NM arc centered at lat. 30°29′15″ N., long. 89°39′04″ W.; to lat. 30°27′08″ N., long. 89°36′37″ W.; to the point of beginning.

Designated altitudes. Surface to 10,000 feet MSL.

Time of designation. Intermittent, 2000 to 0500 local time, as activated by NOTAM at least 24 hours in advance; and 1800 to 2000 local time, November 1 to March 1, as activated by NOTAM at least 24 hours in advance, not to exceed 20 days per year.

Controlling agency. FAA, Houston ARTCC.

Using agency. U.S. Navy, Commander, Naval Special Warfare Command, Naval Special Warfare N31 Branch, Stennis Space Center, Bay St. Louis, MS.

R-4403E Stennis Space Center, MS [New]

Boundaries. Beginning at lat. 30°29′37″ N., long. 89°35′16″ W.; to lat. 30°29′37″ N., long. 89°32′33″ W.; thence clockwise along a 0.85M arc centered at lat. 30°28′46″ N., long. 89°32′33″ W.; to lat. 30°28′46″ N., long. 89°31′34″ W.; to lat. 30°26′25″ N., long. 89°31′34″ W.; to lat. 30°24′02″ N., long. 89°31′34″ W.; thence counterclockwise along a 4.2-NM arc centered at lat. 30°22′04″ N., long. 89°27′17″ W.; to lat. 30°22′35″ N., long. 89°32′06″ W.; to lat. 30°22′35″ N., long. 89°35′27″ W.; to lat. 30°27′58″ N., long. 89°35′27″ W,; to lat. 30°28′47″ N., long. 89°35′27″ W.; to the point of beginning.

Designated altitudes. Surface to 10,000 feet MSL.

Time of designation. Intermittent, 2000 to 0500 local time, as activated by NOTAM at least 24 hours in advance; and 1800 to 2000 local time, November 1 to March 1, as activated by NOTAM at least 24 hours in advance, not to exceed 20 days per year.

Controlling agency. FAA, Houston ARTCC.

Using agency. U.S. Navy, Commander, Naval Special Warfare Command, Naval Special Warfare N31 Branch, Stennis Space Center, Bay St. Louis, MS.

R-4403F Stennis Space Center, MS [New]

Boundaries. Beginning at lat. 30°29′37″ N., long. 89°35′16″ W.; thence clockwise along a 2.5-NM arc centered at lat. 30°28′46″ N., long. 89°32′33″ W.; to lat. 30°26′25″ N., long. 89°31′34″ W.; to lat. 30°28′46″ N., long. 89°31′34″ W.; thence counterclockwise along a 0.85-NM arc centered at lat. 30°28′46″ N., long. 89°32′33″ W.; to lat. 30°29′37″ N., long. 89°32′33″ W.; to the point of beginning.

Designated altitudes. 4,000 feet MSL to 10,000 feet MSL.

Time of designation. Intermittent, 2000 to 0500 local time, as activated by NOTAM at least 24 hours in advance; and 1800 to 2000 local time, November 1 to March 1, as activated by NOTAM at least 24 hours in advance, not to exceed 20 days per year.

Controlling agency. FAA, Houston ARTCC.

Using agency. U.S. Navy, Commander, Naval Special Warfare Command, Naval Special Warfare N31 Branch, Stennis Space Center, Bay St. Louis, MS.

Issued in Washington, DC on March 23, 2016.
Leslie M. Swann,
Acting Manager, Airspace Policy Group.

[FR Doc. 2016-07055 Filed 3-28-16; 8:45 am]

BILLING CODE 4910-13-P